DEPARTMENT OF HEALTH AND HUMAN SERVICES

Administration for Children and Families

President's Committee for People With Intellectual Disabilities: Notice of Quarterly Meeting

AGENCY: President's Committee for People With Intellectual Disabilities (PCPID), HHS.

ACTION: Notice of quarterly meeting.

DATES: The meeting will be held on Thursday, December 7, 2006, from 3 p.m. to 6 p.m. Eastern Standard Time. The full committee meeting of the President's Committee for People with Intellectual Disabilities will be conducted by telephone conference call and will be open to the public. Anyone interested in participating in the conference call should advise Ericka Alston at 202-619-0634, no later than December 6, 2006.

ADDRESSES: The conference call may be accessed by dialing, U.S. toll free, 888-795-2173, passcode DECEMBER2006 on the date and time indicated.

SUMMARY: Pursuant to section 10(a) of the Federal Advisory Committee Act as amended (5 U.S.C. Appendix 2) notice is hereby given that the President's Committee for People with Intellectual Disabilities will hold its quarterly meeting by telephone conference call. The conference call will be open to the public to listen, with call-ins limited to the number of telephone lines available. Individuals who plan to call in and need special assistance, such as TTY, assistive listening devices, or materials in alternative format, should inform Ericka Alston, Executive Assistant, President's Committee for People with Intellectual Disabilities, Telephone—202-619-0634, Fax—202-205-9519, E-mail: ealston@acf.hhs.gov, no later than December 6, 2006. Efforts will be made to meet special requests received after that date, but availability of special needs accommodations to respond to these requests cannot be guaranteed.

Agenda: Committee members will hear from Ms. Madeleine Will, Vice President of Public Policy and Director of the National Policy Center at the National Down Syndrome Society. Ms. Will will speak about her personal and professional perspective on the barriers facing people with intellectual disabilities throughout the lifespan, and how the Committee can work in conjunction with President Bush's New Freedom Initiative to tear down those barriers. The Committee will also hear from Mr. Mark Gross, designated representative of the Ex officio member from the U.S. Department of Justice, Attorney General Alberto R. Gonzales. Mr. Gross will brief the Committee on the programs and services in the Justice Department for people with intellectual disabilities. The Committee will then hear reports from the various subcommittees regarding their current projects and goals.

FOR FURTHER INFORMATION CONTACT: Contact Sally Atwater, Executive Director, President's Committee for People with Intellectual Disabilities, Aerospace Center Office Building, Suite 701, 901 D Street, SW., Washington, DC 20447, Telephone—(202) 619-0634, Fax—(202) 205-9519, E-mail: satwater@acf.hhs.gov.

SUPPLEMENTARY INFORMATION: The PCPID acts in an advisory capacity to the President and the Secretary of Health and Human Services on a broad range of topics relating to programs, services and supports for persons with intellectual disabilities. The Committee, by Executive Order, is responsible for evaluating the adequacy of current practices in programs, services and supports for persons with intellectual disabilities, and for reviewing legislative proposals that impact the quality of life experienced by citizens with intellectual disabilities and their families.

Dated: December 4, 2006.
Ericka Alston,
Executive Assistant to the Director, President's Committee for People with Intellectual Disabilities.

[FR Doc. E6-20778 Filed 12-5-06; 8:45 am]

BILLING CODE 4184-01-P